FEDERAL COMMUNICATIONS COMMISSION

47 CFR Part 73

[DA 04-2161, MB Docket No. 02-315, RM-10566]

Digital Television Broadcast Service; Moscow, ID

AGENCY: Federal Communications Commission.

ACTION: Final rule.

SUMMARY: The Commission, at the request of the State Board of Education, State of Idaho, substitutes TV channel *35 for TV channel *12— and DTV channel *12 for DTV channel *35 at Moscow, Idaho. See 67 FR 63873, October 16, 2002. TV channel *35 can be substituted for TV channel *12—with a minus offset consistent with Sections 73.610 and 73.611 of the Commission's Rules at coordinates 46-41-07 N. and 116-50-34 W. DTV channel *12 can be substituted for DTV channel *35 at Moscow in compliance with the principal community coverage requirements of Section 73.625(a) at reference coordinates 46-40-54 N. and 116-58-13 W. with a power of 128.5, HAAT of 339.7 meters and with a DTV service population of 243 thousand. With this action, this proceeding is terminated.

DATES: Effective September 13, 2004.

FOR FURTHER INFORMATION CONTACT: Pam Blumenthal, Media Bureau, (202) 418-1600.

SUPPLEMENTARY INFORMATION: This is a synopsis of the Commission's Report and Order, MB Docket No. 02-315, adopted July 19, 2004, and released July 30, 2004. The full text of this document is available for public inspection and copying during regular business hours in the FCC Reference Information Center, Portals II, 445 12th Street, SW., Room CY-A257, Washington, DC. This document may also be purchased from the Commission's duplicating contractor, Qualex International, Portals II, 445 12th Street, SW, CY-B402, Washington, DC, 20554, telephone 202-863-2893, facsimile 202-863-2898, or via e-mail qualexint@aol.com.

This document does not contain [new or modified] information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this [Report & Order etc.] in a report to be sent to Congress and the General Accounting Office pursuant to the Congressional Review Act, see 5 U.S.C. 801(a)(1)(A).

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Idaho, is amended by removing TV channel *12—and adding TV channel *35—at Moscow.

§ 73.622 [Amended]

3. Section 73.622(b), the Table of Digital Television Allotments under Idaho, is amended by removing DTV channel *35 and adding DTV channel *12 at Moscow.

Federal Communications Commission.
Barbara A. Kreisman,
Chief, Video Division, Media Bureau.

[FR Doc. 04-17244 Filed 7-30-04; 8:45 am]

BILLING CODE 6712-01-P